DEPARTMENT OF DEFENSE

Office of the Secretary

Science and Technology Reinvention Laboratory Personnel Management Demonstration Program

AGENCY: Office of the Deputy Under Secretary of Defense (Civilian Personnel Policy) (DUSD (CPP)), Department of Defense (DoD).

ACTION: Notice of amendment of demonstration project plans and notice of proposals to adopt a demonstration project plan.

SUMMARY: Section 342(b) of the National Defense Authorization Act (NDAA) for Fiscal Year (FY) 1995, as amended (10 U.S.C. 2358 note) by section 1109 of NDAA FY 2000 and section 1114 of NDAA FY 2001, authorizes the Secretary of Defense to conduct personnel demonstration projects at DoD laboratories designated as Science and Technology Reinvention Laboratories (STRLs). The above-cited statute authorizes the Department to conduct demonstration projects to determine whether a specified change in personnel management policies or procedures would result in improved Federal personnel management.

Section 1107 of the NDAA for FY 2008 requires the Secretary of Defense to take all necessary actions to fully implement and use the authorities provided under section 342(b) of the NDAA for FY 1995, as amended (10 U.S.C. 2358 note) by section 1109 of the NDAA for FY 2000 and section 1114 of the NDAA for FY 2001, to include executing a process and implementation plan to fully utilize the authorities to enhance the performance of the missions of the laboratories. Further, subsection 1107(c) authorizes that any flexibility available to any demonstration laboratory shall be available for use at any other laboratory as enumerated in subsection 9902(c)(2) of title 5, United States Code.

This Federal Register notice (FRN):

1. Serves as an amendment to add subsection 1107(c) authority to the STRL Personnel Management Demonstration Project final FRNs that were published prior to the date of this FRN;

2. Serves as notice pursuant to subsection 1107(c) that the three STRLs listed in subsection 9902(c)(2) not having personnel demonstration projects at this time may adopt any of the flexibilities of the other laboratories listed in subsection 9902(c)(2);

3. Provides a basic process to adopt flexibilities, make minor changes, and/or request Federal Register notices; and

4. Serves as notice of the proposed adoption of a STRL Personnel Management Demonstration Project by two centers under the United States Army Research, Development and Engineering Command (RDECOM): Edgewood Chemical Biological Center (ECBC) and Natick Soldier Research, Development and Engineering Center (NSRDEC).

DATES: 1. The amendment to the listed demonstration project plans and the notice of the authority to adopt any 9902(c)(2) laboratory flexibilities by the non-demonstration project laboratories may be implemented beginning on the date of publication of this notice in the Federal Register; and implementation of the process will be through regulations issued by the Under Secretary of Defense for Personnel and Readiness.

2. The proposed adoption of an existing STRL demonstration project by ECBC and NSRDEC may not be implemented until a 30-day comment period is provided, comments addressed, and a final Federal Register notice published. To be considered, written comments must be submitted on or before January 2, 2009.

ADDRESSES: Send comments on or before the comment due date by mail to Ms. Betty A. Duffield, CPMS-PSSC, Suite B-200, 1400 Key Boulevard, Arlington, VA 22209-5144; by fax to (703) 696-5462; or by e-mail to Betty.Duffield@cpms.osd.mil.

FOR FURTHER INFORMATION CONTACT: Department of the Army:

• Army Research Laboratory (ARL): Mr. Tom Bock, Program Manager, ARL Personnel Demonstration Project, AMSRD-ARL-O-HR, 2800 Powder Mill Road, Adelphi, MD 20783-1197;

• Aviation and Missile Research, Development, and Engineering Center (AMRDEC): Dr. Steven P. D. Smith, Senior Technical Advisor to the Director, AMRDEC, 5400 Fowler Road, Redstone Arsenal, AL 35898-5000;

• Communications-Electronics Research, Development, and Engineering Center (CERDEC): Ms. Desiree DiAngelo, CERDEC Personnel Demonstration Project Administrator, Myer Center, Building 2700, Room 2C204, ATTN: AMSRD-CER-HRO, Fort Monmouth, NJ 07703-5209;

• Edgewood Chemical Biological Center (ECBC): Ms. Kim Hoffman, Management and Program Analyst, ECBC, Directorate of Program Integration, Workforce Management Office, Department of the Army, ATTN: AMSRD-ECB-PI-WM, 5183 Blackhawk Road, Building 3330, Aberdeen Proving Ground, MD 21010-5424;

• Engineer Research and Development Center (ERDC): Mr. Timothy D. Ables, Personnel Demonstration Project Manager, U.S. Army Engineer Research and Development Center, 3909 Halls Ferry Road, Vicksburg, MS 39180-6199;

• Medical Research and Materiel Command (MRMC): Ms. Linda Krout, Director, Civilian Personnel Advisory Center, Medical Research and Material Command, 810 Schreider Street, Suite 106, Fort Detrick, MD 21702-5000; and

• Natick Soldier Research, Development and Engineering Center (NSRDEC): Ms. Karen K. Sullivan, Demonstration Project Manager, Natick Soldier Research, Development and Engineering Center, Kansas Street, (AMSRD-NSR-BO-W), Natick, MA 01760.

Department of the Air Force:

• Air Force Research Laboratory (AFRL): Ms. Michelle Williams, Personnel Demonstration Project Manager, Air Force Research Laboratory, 1864 4th Street, Wright-Patterson Air Force Base, OH 45433-5209.

Department of the Navy:

• Office of Naval Research (ONR): Ms. Margaret Mitchell, Director, Human Resources Office, Office of Naval Research, 875 North Randolph Street, Code 01HR, Arlington, VA 22203;

• Naval Research Laboratory (NRL): Ms. Cathy Downing, Director, Strategic Workforce Planning, Naval Research Laboratory, 4555 Overlook Ave., SW.,Washington, DC 20375-5320; and

• Naval Sea Systems Command (NAVSEA) Warfare Centers: Ms. Vicki Warner, Deputy Manager, NAVSEA Demonstration Program, Naval Surface Warfare Center Dahlgren Division, 17632 Dahlgren Road, Suite 200, Dahlgren, VA 22448-5154.

Department of Defense (DoD): Ms. Betty A. Duffield, CPMS-PSSC, Suite B-200, 1400 Key Boulevard, Arlington, VA 22209-5144.

SUPPLEMENTARY INFORMATION:

1. Background

The STRL Personnel Management Demonstration Projects involve broad-banded pay systems and simplified classification; pay for performance, including contribution-based pay; recruitment and staffing changes; and enhanced training and development including critical skills training, Voluntary Emeritus Corps, and sabbaticals.

Final plans were published in the Federal Register for the following STRL Personnel Management Demonstration Projects within the Departments of the Army, Navy, and Air Force, as follows:

• Department of the Army: Army Research Laboratory (ARL)—63 FR 10679, March 4, 1998; Aviation and Missile Research, Development, and Engineering Center (AMRDEC)—62 FR 34875, June 27, 1997; Communications-Electronics Research, Development, and Engineering Community (which consists of the Communications-Electronics Research, Development, and Engineering Center (CERDEC) and the Software Engineering Center (SEC))—66 FR 54872, October 30, 2001; Engineer Research and Development Center (ERDC)—63 FR 14579, March 25, 1998; and Medical Research and Materiel Command (MRMC)—63 FR 10439, March 3, 1998;

• Department of the Navy: Naval Research Laboratory (NRL)—64 FR 33970, June 24, 1999; and Naval Sea Systems Command (NAVSEA) Warfare Centers—62 FR 64050, December 3, 1997; and

• Department of the Air Force: Air Force Research Laboratory (AFRL)—61 FR 60339, November 27, 1996.

Amendments and/or corrections to final plans were published in the Federal Register as follows:

• Department of the Army: Army Research Laboratory (ARL)—63 FR 13458, March 19, 1998; and 65 FR 3500, January 21, 2000; Aviation and Missile Research, Development, and Engineering Center (AMRDEC)—64 FR 11074, March 8, 1999; 64 FR 12216, March 11, 1999; 65 FR 53142, August 31, 2000; and 67 FR 5716, February 6, 2002; Engineer Research and Development Center (ERDC)—63 FR 55770, October 16, 1998; 64 FR 12216, March 11, 1999; 65 FR 32135, May 22, 2000; and 67 FR 5712, February 6, 2002; and Medical Research and Materiel Command (MRMC)—64 FR 30378, June 7, 1999;

• Department of the Navy: Naval Research Laboratory (NRL)—No amendments were published; and Naval Sea Systems Command (NAVSEA) Warfare Centers—64 FR 39179, July 21, 1999; and 65 FR 52453, August 29, 2000; and

• Department of the Air Force: Air Force Research Laboratory (AFRL)—65 FR 3498, January 21, 2000; and 70 FR 60495, October 18, 2005.

Section 342(b) of the NDAA for FY 1995 provided the Secretary of Defense the authority, with the approval of the Director of the Office of Personnel Management (OPM), to carry out personnel demonstration projects and modified standard demonstration project authorities (5 U.S.C. section 4703). Section 1109 of the NDAA for FY 2000 amended section 342(b) to provide STRLs exemption from certain workforce management restrictions. Section 1114 of the NDAA for FY 2001 amended section 342(b) to authorize the Secretary of Defense to exercise OPM demonstration project authorities under 5 U.S.C. section 4703 for the STRLs. Section 1107 of the NDAA for FY 2008 required full implementation of section 342(b) of the NDAA for FY 1995 as amended and authorized that any flexibility available to any demonstration laboratory shall be available for use at any other laboratory as enumerated in subsection 9902(c)(2) of title 5, U.S.C. The laboratories listed in subsection 9902(c)(2) are:

Department of the Army:

• Army Research Laboratory (ARL);

• Aviation and Missile Research, Development, and Engineering Center (AMRDEC);

• Communications-Electronics Research, Development, and Engineering Command (reorganization changed designation to Communications-Electronics Research, Development, and Engineering Center (CERDEC));

• Engineer Research and Development Command (name changed to the Engineer Research and Development Center (ERDC));

• Medical Research and Materiel Command (MRMC);

• Soldier and Biological Chemical Command (reorganization changed designation to Natick Soldier Research, Development and Engineering Center (NSRDEC) and Edgewood Chemical Biological Center (ECBC) under the United States Army Research, Development and Engineering Command).

Department of the Navy:

• Naval Research Laboratory (NRL);

• Naval Sea Systems Command (NAVSEA) Warfare Centers; and

• Office of Naval Research.

Department of the Air Force:

• Air Force Research Laboratory (AFRL).

2. Overview

Because the various STRLs implemented their personnel demonstration projects at different times between 1997 and 2002, the later demonstration projects contain initiatives that the earlier ones do not. For example, the earliest STRL personnel management demonstration project (AFRL) contains no hiring flexibilities, while later STRL personnel demonstration projects include several hiring and appointment flexibilities. In this example, subsection 1107(c) of the NDAA for FY 2008 provides AFRL the option to implement any of the hiring and appointment flexibilities that were subsequently approved for use in another STRL personnel demonstration project. It also provides the option for the three STRLs listed in subsection 9902(c)(2) not having personnel demonstration projects to adopt the flexibilities, including adopting an entire personnel management demonstration project, of the other laboratories listed in 9902(c)(2). In addition, subsections 1107(a) and 1107(b) of the NDAA for FY 2008 require that all necessary actions be taken including executing a process and implementation plan to fully implement and use the personnel demonstration project authorities provided to the Secretary of Defense to enhance the performance of the missions of the laboratories. This Federal Register notice is one of the steps necessary to execute the required process.

I. Executive Summary

The STRL personnel management demonstration projects are generally similar in nature to the Department of the Navy's China Lake personnel demonstration project. The STRL personnel demonstration projects were built upon the concepts of broad-banded pay systems and simplified classification; pay for performance, including contribution-based pay; recruitment and staffing changes; enhanced training and development including critical skills training; a Voluntary Emeritus Corps; and sabbaticals.

II. Introduction

A. Purpose

STRL personnel management demonstration projects provide managers, at the lowest practical level, the personnel authorities and flexibilities needed to achieve a quality laboratory and quality products. The purposes of this FRN are to:

1. Serve as an amendment to add subsection 1107(c) authority to the STRL Personnel Management Demonstration Project final FRNs listed herein at Section 1., Background, Supplementary Information, that were published prior to the date of this FRN;

2. Serve as notice pursuant to subsection 1107(c) that the three STRLs listed in subsection 9902(c)(2) not having personnel demonstration projects at this time (Office of Naval Research and two Centers under the United States Army Research, Development and Engineering Command (RDECOM): Edgewood Chemical Biological Center (ECBC) and Natick Soldier Research, Development and Engineering Center (NSRDEC), may adopt any of the flexibilities of the other laboratories listed in subsection 9902(c)(2);

3. Provide a basic process to adopt flexibilities, make minor changes to a demonstration project plan, and request Federal Register notices as part of the process to fully implement and use the authorities provided under section 342(b) of the NDAA for FY 1995, as amended; and

4. Serve as notice of the proposed adoption without changes of the STRL Personnel Management Demonstration project designed by the U.S. Army Communications-Electronics Command, Research, Development, and Engineering organizations (reorganization changed designation to the United States Army Communications-Electronics Research, Development and Engineering Center (CERDEC)) by ECBC and NSRDEC except for the name of organizations; organizational and work force information; approval authorities; technical modifications to conform to changes in the law and governing OPM regulations, which are not being waived, that were effected after the publication of the CERDEC personnel demonstration project plan; and changes in response to comments received during the 30-day comment period.

B. Employee Notification and Collective Bargaining Requirements

ECBC and NSRDEC employees affected by the proposed adoption of the CERDEC Personnel Management Demonstration Project will be provided a copy of this notice. Prior to implementing any discretionary flexibility adopted pursuant to subsection 1107(c) of the NDAA for FY 2008, participating organizations must fulfill any collective bargaining obligations to unions that represent employees covered by the STRL personnel demonstration project involved.

III. Personnel System Changes

A. The following STRL demonstration project plans are hereby amended to add that each of the STRLs enumerated in subsection 9902(c)(2) may use any flexibility granted to these STRLs by their final demonstration project plans, including the amendments thereto, published as listed in Section 1, Background, Supplemental Information, in this Federal Register notice.

Department of the Army

• Army Research Laboratory (ARL);

• Aviation and Missile Research, Development, and Engineering Center (AMRDEC);

• Communications-Electronics Research, Development, and Engineering Center (CERDEC);

• Engineer Research and Development Center (ERDC); and

• Medical Research and Materiel Command (MRMC).

Department of the Navy

• Naval Research Laboratory (NRL); and

• Naval Sea Systems Command (NAVSEA) Warfare Centers.

Department of the Air Force

• Air Force Research Laboratory (AFRL).

Future STRL final FRNs will contain the statement, “Flexibilities published in this Federal Register shall be available for use by all STRLs enumerated in subsection 9902(c)(2) of title 5, U.S.C., if they wish to adopt them.”

B. The three STRLs listed in subsection 9902(c)(2) not having personnel demonstration projects at this time (Office of Naval Research, ECBC and NSRDEC) may adopt the flexibilities of the other laboratories listed in subsection 9902(c)(2) using the process described herein under III. Personnel System Changes, paragraph D.

C. This Federal Register notice also serves as notice of the proposed adoption of an existing STRL Personnel Management Demonstration Project by two Centers under the United States Army Research, Development and Engineering Command (RDECOM): Edgewood Chemical Biological Center (ECBC) and Natick Soldier Research, Development and Engineering Center (NSRDEC).

• The ECBC includes the ECBC organization at the Edgewood Area of Aberdeen Proving Ground, and employees matrixed to the Joint Program Executive Office for Chemical/Biological Defense (JPEO-CBD), as well as ECBC employees with duty stations at other sites. This demonstration project will cover approximately 1,100 ECBC civilian employees under title 5, United States Code.

• The NSRDEC includes the NSRDEC organization at the Natick Soldier Systems Center site, NSRDEC employees matrixed from NSRDEC to Program/Project/Product Management Offices (e.g., PM-Force Sustainment Systems, and PM-Clothing and Individual Equipment) as well as NSRDEC employees with duty stations at other sites. This demonstration project is intended to cover approximately 700 NSRDEC civilian employees under title 5, United States Code.

ECBC and NSRDEC propose to adopt without changes the STRL Personnel Management Demonstration project designed by the United States Army Communications-Electronics Command, Research, Development and Engineering organizations (now known as the United States Army Communications-Electronics Research, Development and Engineering Center (CERDEC)) published in 66 FR 54872, October 30, 2001, except for the name of organizations; organizational and work force information; approval authorities; technical modifications to conform to changes in the law and governing OPM regulations, which are not being waived, that were effected after the publication of the CERDEC personnel demonstration project plan; and changes in response to comments received during the 30-day comment period.

The adoption of the CERDEC demonstration project by ECBC and NSRDEC may not be implemented until the requirements in this notice have been fulfilled. This includes a 30-day comment period, a review and discussion of comments in the supplemental information section of their final FRNs, and publishing the final FRNs. In addition, ECBC and NSRDEC will need to prepare and execute an implementation plan that includes a timeline, a plan to socialize the proposal through such means as letters to employees, briefings, town hall meetings, Web sites, and newsletters; a communication plan; a training plan; and plans to meet collective bargaining obligations. The implementation plan shall be provided to the Deputy Under Secretary of Defense (Civilian Personnel Policy) (DUSD (CPP)) for review and comment. ECBC and NSRDEC internal operating policies and procedures would be described and published in their directives systems with copies to the DUSD (CPP).

D. Section 1107 of the NDAA for FY 2008 requires a process for full implementation of the demonstration project authorities provided to the Secretary of Defense. The basic process for STRLs to use to adopt flexibilities, make minor changes, or request a FRN is outlined below. Additional details to support implementation of the DoD process will be published through the DoD directives system.

• The process begins when a STRL makes a decision to adopt a flexibility from a demonstration laboratory listed in subsection 9902(c)(2). Flexibilities are defined as those features described in final STRL FRNs; amendments thereto published in FRNs; minor changes made within the authorities of a demonstration project plan, documented in laboratory internal issuances and disseminated to employees; and official laboratory implementing issuances that have been distributed. Once the STRL has developed their plan and coordinated the plan through their various stakeholders, a notification is sent to the DUSD (CPP) by memorandum with simultaneous copies to DUSD (Laboratories and Basic Sciences) (LABS) under the Under Secretary of Defense for Acquisition, Technology and Logistics, and their respective Component point of contact. When a laboratory's request is received, the DUSD (CPP) will request from both DUSD (LABS) and the Component their concurrence, comments, etc. before making a final decision on the request. Notices must include the description of flexibilities being adopted; the cite where the flexibility is found; reason for the change; results expected; evaluation methodology; information technology implications and cost; projected date of implementation; communication plan; and, as appropriate, bargaining unit status, draft FRN, and any other pertinent information needed to adhere to the tenets of section 4703 of title 5 U.S.C.

• The DUSD (CPP) staff will review each notification individually for adherence to process; consistency with existing FRN provisions; completeness and accuracy of waivers; impact on Department-wide initiatives, information technology, cost, etc.; consider the concurrence and any comments from the DUSD (LABS) and the Component; provide comments to the STRL; assist, when needed, to finalize notification; and provide concurrence with adoption following resolution of any issues. The DUSD (CPP) is responsible for ensuring that the notice includes only existing flexibilities, the proposed flexibilities are not internally contradictory or inconsistent, and timing does not adversely affect other Department initiatives. Each laboratory will document in its own implementing issuances its internal procedures for the use of any flexibility adopted from another demonstration laboratory and disseminate the information to employees and other interested parties.

• Demonstration laboratories are still required to document changes to existing FRNs not under the auspices of subsection 1107(c) and proposed new flexibilities. Normally, changes not covered by subsection 1107(c) to existing FRNs or new initiatives require publication in the Federal Register. A draft FRN is forwarded to the DUSD (CPP) for review. Simultaneously copies are to be sent to the DUSD (LABS) and the Component point of contact. When a draft FRN is received, the DUSD (CPP) will request from both DUSD (LABS) and the Component their concurrence, comments, etc. before making a recommendation on the FRN. The DUSD (CPP) forwards the recommendation for approval/disapproval of the FRN to the Under Secretary of Defense for Personnel and Readiness (USD (P&R)). The USD (P&R) retains approval/disapproval authority for new initiatives or change requests not covered by subsection 1107(c). Minor modifications are possible without a FRN if they can be made within the demonstration project's existing authorities and if appropriate notice is given to employees and other interested parties. Each laboratory will document in its own implementing instructions its minor modifications to its demonstration project plan and any associated revised internal procedures. A copy of the implementing instructions will be provided the DUSD (CPP), DUSD (LABS), and Component point of contact.

Dated: November 25, 2008.
Patricia L. Toppings,
OSD Federal Register Liaison Officer, Department of Defense.

[FR Doc. E8-28591 Filed 12-1-08; 8:45 am]

BILLING CODE 5001-06-P